DEPARTMENT OF THE INTERIOR

National Park Service

Notice of Inventory Completion: Museum of Anthropology, Washington State University Pullman, WA

AGENCY: National Park Service, Interior.

ACTION: Notice.

Notice is here given in accordance with the Native American Graves Protection and Repatriation Act (NAGPRA), 25 U.S.C. 3003, of the completion of an inventory of Native American human remains and associated funerary objects in the possession and control of the Museum of Anthropology, Washington State University, Pullman, WA. The human remains and associated funerary objects were removed from an unknown site in central Washington State and Asotin County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by Museum of Anthropology, Washington State University, professional staff in consultation with representatives of the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-federally recognized Indian group.

In June and July of 1951, human remains representing a minimum of two individuals were removed from the Steptoe Burial site (45AS2), in Asotin County, WA. The burials were removed as part of an archeological study performed by the Department of Anthropology at Washington State University under the direction of Dr. Richard Daugherty. No known individuals were identified. The 57 associated funerary objects are 4 projectile points, 2 scrapers, 1 bone scraper handle, 1 lot of mussel shells, 1 lot of red ochre, 2 bone awls, 1 lot of charcoal, 1 pestle, 2 lots of cedar wood fragments, 3 lots of shell beads, 1 stone bead necklace, 2 bifaces, 5 lots of bag residue, 4 lots of animal bones, 1 stone net sinker, 1 lot of tin can fragments, 2 fragments of flatware, 1 lot of buttons, 6 lots of fabric fragments, 3 lots of nails, 2 lots of metal fragments, 3 lots of glass beads, 3 lots of modified wood fragments, and 5 lots of leather fragments.

The burial pattern recorded by the excavators and the character of the extant funerary items indicate that these remains are Native American and that they date to the Late Prehistoric Period on the southern Plateau. The site is in the vicinity of several ethnographically known communities whom anthropologists have characterized as ancestral to the Nez Perce. The Nez Perce are members of the Federally-recognized Nez Perce Tribe, Idaho, and 1 of the 12 bands of the Confederated Tribes of the Colville Reservation. The site is also within the overlapping 19th century territories of the Nez Perce and Palus (Sprague 1998; Walker 1998). Descendents of these communities are known to be members of the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-federally recognized Indian group.

In 2001, a small jar of fragmentary human remains representing a minimum of two individuals was found in the museum storage facility, but the remains were likely removed from Columbia Point, Asotin County, WA. The jar was labeled “Columbia Point 80-24.” Also contained in the jar was one lot of soil from which the bones were removed. Between 1977 and 1979, archeological studies were performed at Columbia Point by the Mid-Columbia Archaeological Society. The site had been heavily disturbed by looting. The number 80-24 is reminiscent of a collection numbering system used by the Museum of Anthropology between the 1950s and 1980s. The first part of the number represents the last two digits of the year the materials were collected and the numbers after the dash represent the order in which the collections were recorded during that year. This contextual information strongly suggests that the remains are Native American. No known individuals were identified. The associated funerary object is a soil sample.

Columbia Point has been determined eligible for listing on the National Register of Historic Places as a traditional cultural property. Columbia Point is located at the mouth of the Yakima River, which is upstream and across the Columbia River from the confluence of the Snake and Columbia Rivers. Ethnographic and historic records describe the area as a major traditional gathering place for fishing and trading. This area is located within the overlapping aboriginal territory of the Nez Perce, Palouse, Walla Walla, Wanapum, and Yakama. According to the “Indian Land Areas Judicially Established by the Indian Court of Claims 1978” at Index 96, as well as early and more recent ethnographic documentation, this area is within the aboriginal territory of the Walla Walla. Furthermore, early ethnographic evidence indicates that the Palouse, Wanapum, and Yakama also occupied this area. Descendants of the Palouse, Walla Walla, Wanapum, and Yakama are members of the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-federally recognized Indian group.

In 2009, a detailed assessment was made of a complete skeleton of a juvenile that is cemented in the sediment in which it was originally buried. Retired faculty and former students were contacted and they recall that the skeleton was formerly in the lab of the late Dr. Grover Krantz. Dr. Krantz had described the skeleton as coming from an archeological site along the Columbia River in central Washington State. The character of the cemented sediment supports that the skeleton was buried in sandy river deposits. No known individual was identified. The associated funerary object is a necklace of dentalia shell.

The association of these remains with an unknown archeological site, the semi-flexed position of the skeletal remains, and the presence of dentalia shell, which was a common funerary item during the Late Prehistoric Period on the southern Plateau, provide strong evidence that the remains are Native American. The identification of a general regional provenience for the human remains supports a cultural affiliation with any or all of those communities whose traditional territories included the Mid-Columbia region. These communities include the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-federally recognized Indian group.

Officials of the Museum of Anthropology, Washington State University, have determined that, pursuant to 25 U.S.C. 3001(9), the human remains described above represent the physical remains of five individuals of Native American ancestry. Officials of the Museum of Anthropology, Washington State University, also have determined that, pursuant to 25 U.S.C. 3001(3)(A), the 59 objects described above are reasonably believed to have been placed with or near individual human remains at the time of death or later as part of the death rite or ceremony. Lastly, officials of the Museum of Anthropology, Washington State University, have determined that, pursuant to 25 U.S.C. 3001(2), there is a relationship of shared group identity that can be reasonably traced between the Native American human remains and associated funerary objects and the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-federally recognized Indian group.

Representatives of any other Indian tribe that believes itself to be culturally affiliated with the human remains and associated funerary objects should contact Mary Collins, WSU Museum of Anthropology, PO Box 644910, Pullman, WA 99164, telephone (509) 335-4314, before August 16, 2010. Repatriation of the human remains and associated funerary objects to the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-federally recognized Indian group, may proceed after that date if no additional claimants come forward.

The Museum of Anthropology is responsible for notifying the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-federally recognized Indian group, this notice has been published.

Dated: July 9, 2010
Sherry Hutt,
Manager, National NAGPRA Program.

[FR Doc. 2010-17483 Filed 7-16-10; 8:45 am]

BILLING CODE 4312-50-S